INTERNATIONAL TRADE COMMISSION

[Inv. No. 337-TA-609]

In the Matter of Certain Buffer Systems and Components Thereof Used in Container Processing Lines; Notice of Investigation

AGENCY: U.S. International Trade Commission.

ACTION: Institution of investigation pursuant to 19 U.S.C. 1337.

SUMMARY: Notice is hereby given that a complaint was filed with the U.S. International Trade Commission on May 31, 2007, under section 337 of the Tariff Act of 1930, as amended, 19 U.S.C. 1337, on behalf of Sidel Participations of France, Sidel Canada Inc. of Canada, and Sidel Inc. of Norcross, Georgia. A supplement to the complaint was filed on June 18, 2007. The complaint, as supplemented, alleges violations of section 337 in the importation into the United States, the sale for importation, and the sale within the United States after importation of certain buffer systems and components thereof used in container processing lines by reason of infringement of U.S. Patent No. 6,168,005. The complaint, as supplemented, further alleges that a domestic industry exists in the United States as required by subsection (a)(2) of section 337.

The complainants request that the Commission institute an investigation and, after the investigation, issue a permanent general exclusion order and permanent cease and desist orders.

ADDRESSES: The complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://www.usitc.gov/secretary/edis.htm.

FOR FURTHER INFORMATION CONTACT: Juan S. Cockburn, Esq., Office of Unfair Import Investigations, U.S. International Trade Commission, telephone (202) 205-2572.

Authority: The authority for institution of this investigation is contained in section 337 of the Tariff Act of 1930, as amended, and in section 210.10 of the Commission's Rules of Practice and Procedure, 19 CFR 210.10 (2006).

Scope of Investigation: Having considered the complaint, the U.S. International Trade Commission, on June 26, 2007, ordered that—

(1) Pursuant to subsection (b) of section 337 of the Tariff Act of 1930, as amended, an investigation be instituted to determine whether there is a violation of subsection (a)(1)(B) of section 337 in the importation into the United States, the sale for importation, or the sale within the United States after importation of certain buffer systems and components thereof used in container processing lines by reason of infringement of one or more of claims 1, 3, 4, 6-8, and 17 of U.S. Patent No. 6,168,005, and whether an industry exists in the United States as required by subsection (a)(2) of section 337;

(2) For the purpose of the investigation so instituted, the following are hereby named as parties upon which this notice of investigation shall be served:

(a) The complainants are—Sidel Participations, Avenue de la Patrouille de France, BP 204 Octeville-sur-Mer, 76053 Le Havre Cedex, France; Sidel Canada Inc., 1045 Autoroute Chomedey, Laval, Quebec H7W 4V3, Canada; Sidel Inc., 5600 Sun Court, Norcross, Georgia 30092.

(b) The respondents are the following entities alleged to be in violation of section 337, and are the parties upon which the complaint, as supplemented, is to be served: Krones AG, Böhmerwaldstra e 5, 93073 Neutraubling, Germany; Krones Inc., 9600 South 58th Street, Franklin, Wisconsin 53132-6241; KHS AG, Juchostrasse 20, 44143 Dortmund, Germany; KHS USA, Inc., 880 Bahcall Court, Waukesha, Wisconsin 53186.

(c) The Commission investigative attorney, party to this investigation, is Juan S. Cockburn, Esq., Office of Unfair Import Investigations, U.S. International Trade Commission, 500 E Street, SW., Room 401, Washington, DC 20436; and

(3) For the investigation so instituted, the Honorable Paul J. Luckern is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or cease and desist order or both directed against the respondent.

By order of the Commission.
Issued: June 28, 2007.
Marilyn R. Abbott,
Secretary to the Commission.

[FR Doc. E7-12989 Filed 7-3-07; 8:45 am]

BILLING CODE 7020-02-P